DEPARTMENT OF ENERGY

[Docket No. DOE-HQ-2023-0020]

Notice of Availability of the Draft Environmental Impact Statement for Phase 1 of the Grain Belt Express Transmission Line Project (DOE/EIS-0554)

AGENCY: Loan Programs Office, Department of Energy.

ACTION: Notice of availability, request for comments, notice of proposed floodplain action.

SUMMARY: The Loan Programs Office (LPO), U.S. Department of Energy (DOE), announces the availability of the draft environmental impact statement (DEIS) for the proposed Phase 1 of the Grain Belt Express Transmission Project (Project), and a Notice of Proposed Floodplain Action. The DEIS analyzes the impacts associated with providing potential financial assistance (a Federal loan guarantee) to Grain Belt Express, LLC, for construction and energization of the Project. This notice of availability (NOA) announces the start of the public review and comment period, as well as the dates and times for public meetings on the DEIS. After DOE LPO holds the public meetings and addresses public comments submitted during the review period, DOE LPO will publish a final environmental impact statement. Because the Project may include activities within floodplains, this NOA also serves as a notice of proposed floodplain action.

DATES: Comments must be received no later than March 3, 2025. LPO will hold six public meetings for the Project, four in-person and two virtual, at the following dates and times (Central Time):

• Monday, February 10, 2025, 4-6 p.m., Dodge City Public Library, 1001 N 2nd Ave., Dodge City, KS 67801.

• Tuesday, February 11, 2025, 4-6 p.m., Holiday Inn Express, 2175 Lincoln St., Concordia, KS 66901.

• Wednesday, February 12, 2025, 4-6 p.m. St. Joseph Museum, Jackie Lewin Conference Roon, 3406 Frederick Ave., St. Joseph, MO 64506.

• Thursday, February 13, 2025, 4-6 p.m., La Bella Casa Event Center, 5 South Main St., Carrollton, MO 64633.

• Virtual, Wednesday, February 19, 2025, 11 a.m.-1 p.m.

• Virtual, Wednesday, February 20, 2025, 4-6 p.m.

All meetings are open to the public and free to attend. Registration for in person meetings is not required. Registration for the virtual public meetings is required and may be completed at https://www.energy.gov/lpo/eis-0554-grain-belt-express-transmission-line. Meeting information will be sent to registrants via their email address provided during registration.

ADDRESSES: The DEIS and detailed information about the Project can be found on DOE LPO's website at: https://www.energy.gov/lpo/eis-0554-grain-belt-express-transmission-line. Comments can be submitted in any of the following ways:

Online via DOE LPO's website at https://www.energy.gov/lpo/eis-0554-grain-belt-express-transmission-line or email: LPO_GrainBelt_EIS@hq.doe.gov.

Orally or in writing during any of the public meetings identified in this NOA.

In writing submitted by mail or any other delivery service, enclosed in an envelope labeled “Grain Belt Express EIS” and addressed to Todd Stribley, NEPA Compliance Officer, U.S. Department of Energy, Loan Programs Office—LP30, 1000 Independence Avenue SW, Washington, DC 20585.

Through the regulations.gov web portal: Navigate to https://www.regulations.gov and search for Docket No. DOE-HQ-2023-0020. Click on the “Comment” button below the document link. Enter your information and comment, then click “Submit Comment.”

For more information about submitting comments, please see “Information on Submitting Comments” under the SUPPLEMENTARY INFORMATION heading below.

FOR FURTHER INFORMATION CONTACT: Todd Stribley, U.S. Department of Energy, Loan Programs Office, 1000 Independence Avenue SW, Washington, DC 20585. Email: LPO_GrainBelt_EIS@hq.doe.gov. Phone: 301-525-5944.

SUPPLEMENTARY INFORMATION:

Grain Belt Express LLC (the “Applicant”), applied for Federal financial assistance via a loan guarantee from the DOE LPO under title XVII of the Energy Policy Act of 2005 (42 U.S. Code [U.S.C.] 16511-16517), as amended. Section 1703 of title XVII (the Clean Energy Financing Program) defines eligible projects as those that, “avoid, reduce, or sequester air pollutants or anthropogenic emissions of greenhouse gases; and employ new or significantly improved technologies as compared to commercial technologies in service in the United States at the time the guarantee is issued” (Pub. L. 109-58, sec. 1703(a)). Because the Project may include activities within floodplains, this NOA also serves as a notice of proposed floodplain action, in accordance with 10 Code of Federal Regulations (CFR) part 1022.

Proposed Action. The Federal financing provided by DOE LPO will apply to eligible project costs that include the design, engineering, financing, construction, startup, commissioning, and shakedown of the Project, which includes the following elements:

• A 542-mile, overhead 600-kilovolt (kV) high-voltage direct-current (HVDC) transmission line that would extend between Ford County in southwestern Kansas and Monroe County in northeastern Missouri (HVDC Line);

• The Tiger Connector, an approximately 36-mile, overhead 345-kV alternating-current (AC) transmission line that would extend from the HVDC converter station in Monroe County, Missouri, to the existing McCredie Substation, owned and operated by Associated Electric Cooperative Incorporated, and the existing Burns Substation, owned and operated by Ameren, in Callaway County, Missouri;

• The Ford County Interconnect, an approximately 0.2-mile, overhead 345-kV AC transmission line located in Ford County, Kansas that would extend from the HVDC converter station to the existing Saddle Substation, owned and operated by ITC Great Plains;

• Two HVDC converter stations and associated infrastructure, one located in Ford County, Kansas and one located in Monroe County, Missouri;

• Optical regeneration facilities in support of the HVDC Line and associated access driveways; and

• Temporary workspaces needed for construction, including temporary access routes, workspaces around transmission structures, pull or tension sites, multi-use construction yards, concrete batch plants, and fly yards and helipads.

No Action Alternative. Under the No Action Alternative, DOE LPO would not provide Federal financial support (a loan guarantee) to the Applicant, with the assumption for the purpose of the environmental analysis that the project would not be constructed.

Availability of the DEIS: The DEIS and associated information are available on DOE LPO's website at: https://www.energy.gov/lpo/eis-0554-grain-belt-express-transmission-line. If you require a digital copy on a flash drive or paper copy, LPO will provide one upon request, if supplies are available. You may request a flash drive or paper copy of the DEIS by contacting DOE LPO at LPO_GrainBElt_EIS@hq.doe.gov. Hard copies of the DEIS are available for review at the following libraries:

• Dodge City Public Library, 1001 N 2nd Ave, Dodge City, KS 67801

• Southwest Kansas Library System, 100 Military Ave Suite 210, Dodge City, KS 67801

• Frank Carlson Library, 702 Broadway, Concordia, KS 66901

• Learning Resource Center, 2221 Campus Dr., Concordia, KS 66901

• Great Bend Public Library, 1409 Williams St., Great Bend, KS 67530

• Hays Public Library 1205 Main St., Hays, KS 67601

• Manhattan Public Library, 629 Poyntz Ave., Manhattan, KS 66502

• Kansas City Public Library, 6242 Swope Pkwy, Kansas City, MO 64130

• Mid-Continent Woodneath, 8900 NE Flintlock Rd., Kansas City, MO 64157

• Little Dixie Regional Library, 111 N. 4th St., Moberly, MO 65270

• Little Dixie Regional Library, 102 E Library St., Huntsville, MO 65259

• St. Joseph Public Library, 927 Felix Street, St., Joseph, MO 64501

• East Hills Library, 502 N Woodbine Rd., St., Joseph, MO 64506

• Carnegie Branch Library, 316 Massachusetts St., St. Joseph, MO 64504

• Carrollton Public Library, 1 North Folger St., Carrollton, MO 64633

• Trails Regional Library, 203 E Kelling Ave., Waverly, MO 64096

Cooperating Agencies: The following 4 Federal agencies participated as cooperating agencies in the preparation of the DEIS: U.S. Fish and Wildlife Service, U.S. Army Corps of Engineers, National Park Service, and U.S. Environmental Protection Agency. The Advisory Council on Historic Preservation was a participating agency.

Information on Submitting Comments: LPO requests data, comments, information, analysis, or suggestions relevant to the environmental analysis in the DEIS from the public; affected Federal, tribal, state, and local governments, agencies and offices; the scientific community; industry; or any other interested party. DOE LPO does not consider anonymous comments. To promote informed decision-making, comments should be as specific as possible and should provide as much detail as necessary to meaningfully and fully inform DOE LPO on why the issues raised are important to the consideration of potential environmental effects and/or the alternatives to the proposed action.

Please include your name and address as part of your comment. DOE LPO makes your comments, including your name and address, available for public review. You may request that DOE LPO withhold your name, address, or any other personally identifiable information (PII) included in your comment from the public record; however, DOE LPO cannot guarantee that it will be able to do so. If you wish your name, address, or other PII to be withheld, you must state your request prominently in a cover letter and explain the harm that you fear from its disclosure, such as unwarranted privacy invasion, embarrassment, or injury. Even if LPO withholds your information in the context of this notice, your comment is subject to the Freedom of Information Act (FOIA) and any relevant court orders. If your comment is requested under FOIA or relevant court order, your information will only be withheld if a determination is made that one of the FOIA exemptions to disclosure applies or if the relevant court order is challenged. Such a determination will be made in accordance with DOE's FOIA regulations and applicable law.

Please label privileged or confidential information as “Contains Confidential Information,” and consider submitting such information as a separate attachment. Information that is not labeled as privileged or confidential may be regarded by DOE LPO as suitable for public release. Consistent with Section 304 of the National Historic Preservation Act (NHPA) (54 U.S.C. 307103(a)), DOE LPO is required to withhold the location, character, or ownership of historic resources if it determines that disclosure may, among other things, risk harm to the historic resources or impede the use of a traditional religious site by practitioners. Tribal entities should designate information that falls under Section 304 of NHPA as confidential.

All submissions from organizations or businesses and from individuals identifying themselves as representatives or officials of organizations or businesses will be made available for public inspection in their entirety.

Authority: 42 U.S.C. 4231 et seq. (National Environmental Policy Act, as amended) and 40 CFR 1501.9 and 1503.1.

Signing Authority

This document of the Department of Energy was signed on January 8, 2025, by Todd Stribley, NEPA Compliance Officer, Loan Programs Office, pursuant to delegated authority from the Secretary of Energy. That document with the original signature and date is maintained by DOE. For administrative purposes only, and in compliance with requirements of the Office of the Federal Register, the undersigned DOE Federal Register Liaison Officer has been authorized to sign and submit the document in electronic format for publication as an official document of DOE. This administrative process in no way alters the legal effect of this document upon publication in the Federal Register.

Signed in Washington, DC, on January 10, 2025.
Treena V. Garrett,
Federal Register Liaison Officer, U.S. Department of Energy.

[FR Doc. 2025-00736 Filed 1-16-25; 8:45 am]

BILLING CODE 6450-01-P